DEPARTMENT OF ENERGY

10 CFR Part 431

[Docket No. EERE-2008-BT-STD-0013]

RIN 1904-AB83

Energy Conservation Program for Certain Industrial Equipment: Energy Conservation Standards for Commercial Heating, Air-Conditioning, and Water-Heating Equipment

AGENCY: Office of Energy Efficiency and Renewable Energy, Department of Energy.

ACTION: Notice of data availability and request for public comment.

SUMMARY: The U.S. Department of Energy (DOE) is announcing the availability of an environmental assessment (EA) to accompany its notice of proposed rulemaking (NOPR) considering potential energy conservation standards for certain commercial and industrial equipment, including commercial heating, air-conditioning, and water-heating equipment, published in the Federal Register on March 20, 2009. Specifically, this EA includes a concise examination of the impacts of emission reductions likely to result from the proposed standards for commercial packaged boilers and water-cooled and evaporatively-cooled commercial package air conditioners and heat pumps with a cooling capacity at or above 240,000 Btu/h and less than 760,000 Btu/h. The EA has been incorporated as Chapter 8 in the NOPR technical support document (TSD). In addition, Chapter 9 of the NOPR TSD provides the results of DOE's monetization analysis of these potential emission reductions. These materials are available online (see ADDRESSES). DOE specifically requests that interested members of the public, Tribes, and States comment on the EA.

DATES: DOE will accept comments, data, and information regarding the subject matter of this NODA submitted no later than June 18, 2009.

ADDRESSES: Any comments submitted must identify the NODA for Energy Conservation Standards for ASHRAE Products, and provide the docket number EERE-2008-BT-STD-0013 and/or Regulatory Information Number (RIN) 1904-AB83. Comments may be submitted using any of the following methods:

• Federal eRulemaking Portal: www.regulations.gov. Follow the instructions for submitting comments.

• E-mail: ASHRAE_90.1_rulemaking@ee.doe.gov. Include the docket number EERE-2008-BT-STD-0013 and/or RIN number 1904-AB83 in the subject line of the message.

• Postal Mail: Ms. Brenda Edwards, U.S. Department of Energy, Building Technologies Program, Mailstop EE-2J, 1000 Independence Avenue, SW., Washington, DC 20585-0121. Please submit one signed paper original.

• Hand Delivery/Courier: Ms. Brenda Edwards, U.S. Department of Energy, Building Technologies Program, 950 L'Enfant Plaza, SW., Suite 600, Washington, DC 20024. Telephone: (202) 586-2945. Please submit one signed paper original.

Docket: For access to the docket to read background documents or comments received, visit the U.S. Department of Energy, Resource Room of the Building Technologies Program, 950 L'Enfant Plaza, SW., Suite 600, Washington, DC 20024, (202) 586-2945, between 9 a.m. and 4 p.m., Monday through Friday, except Federal holidays. Please call Ms. Brenda Edwards at the above telephone number for additional information about visiting the Resource Room.

The results of DOE's monetization analysis of potential emission reductions materials are available online at: http://www1.eere.energy.gov/buildings/appliance_standards/commercial/ashrae_products_nopr.html.

FOR FURTHER INFORMATION CONTACT: Mr. Mohammed Khan, U.S. Department of Energy, Office of Energy Efficiency and Renewable Energy, Building Technologies Program, Mailstop EE-2J, 1000 Independence Avenue, SW., Washington, DC 20585-0121. Telephone: (202) 586-7892. E-mail: Mohammed.Khan@ee.doe.gov.

Mr. Eric Stas, U.S. Department of Energy, Office of the General Counsel, Mailstop GC-72, Forrestal Building, 1000 Independence Avenue, SW., Washington, DC 20585-0121. Telephone: (202) 586-9507. E-mail: Eric.Stas@hq.doe.gov.

For information on how to submit public comments, contact Ms. Brenda Edwards, U.S. Department of Energy, Office of Energy Efficiency and Renewable Energy, Building Technologies Program, Mailstop EE-2J, 1000 Independence Avenue, SW., Washington, DC 20585-0121. Telephone: (202) 586-2945. E-mail: Brenda.Edwards@ee.doe.gov.

SUPPLEMENTARY INFORMATION: The Energy Policy and Conservation Act of 1975 (EPCA) (42 U.S.C. 6291 et seq.), as amended, directs DOE to establish energy conservation standards for certain commercial and industrial equipment, including commercial heating, air-conditioning, and water-heating equipment. Of particular relevance here, the statute also requires that each time the corresponding industry standard—the American Society of Heating, Refrigerating and Air-Conditioning Engineers, Inc. (ASHRAE)/Illuminating Engineering Society of North America (IESNA) Standard 90.1, Energy Standard for Buildings Except Low-Rise Residential Buildings—is amended, DOE must assess whether there is a need to update the uniform national energy conservation standards for the same equipment covered under EPCA. ASHRAE officially released an amended version of this industry standard (ASHRAE Standard 90.1-2007) on January 10, 2008, thereby triggering DOE's related obligations under EPCA.

DOE published a NOPR proposing amended energy conservation standards for commercial packaged boilers and water-cooled and evaporatively-cooled commercial package air conditioners and heat pumps with a cooling capacity at or above 240,000 Btu/h and less than 760,000 Btu/h at the efficiency levels specified by ASHRAE Standard 90.1-2007. 74 FR 12000 (March 20, 2009). DOE outlined its review of ASHRAE Standard 90.1-2007 and a determination of scope for the rulemaking in the March 2009 NOPR. In addition, the NOPR discussed the analytical framework used to evaluate ASHRAE equipment, the analytical models and tools that DOE is using to evaluate amended energy conservation standards for this equipment, and the results of the various rulemaking analyses performed by DOE. Finally, in the NOPR, DOE outlined its preliminary conclusions and the proposed standards for these two equipment types.

As noted above, this NODA announces the availability for public comment of an environmental assessment of the proposed energy conservation standards in the March 20, 2009, NOPR. The EA assesses the impacts of the proposed rule pursuant to the National Environmental Policy Act of 1969 (42 U.S.C. 4321 et seq.), the regulations of the Council on Environmental Quality (40 CFR parts 1500-1508), and DOE's regulations for compliance with the National Environmental Policy Act (10 CFR part 1021). This EA includes a concise examination of the impacts of emission reductions likely to result from the proposed standards for commercial packaged boilers and water-cooled and evaporatively-cooled commercial package air conditioners and heat pumps with a cooling capacity at or above 240,000 Btu/h and less than 760,000 Btu/h. The EA has been incorporated as Chapter 8 in the NOPR TSD. In addition, Chapter 9 of the NOPR TSD provides the results of DOE's monetization analysis of these potential emission reductions. These materials are available online at: http://www1.eere.energy.gov/buildings/appliance_standards/commercial/ashrae_products_nopr.html. DOE specifically requests that interested members of the public, Tribes, and States comment on the EA.

Issued in Washington, DC, on May 29, 2009.
Steven G. Chalk,
Principal Deputy Assistant Secretary, Energy Efficiency and Renewable Energy.

[FR Doc. E9-12958 Filed 6-2-09; 8:45 am]

BILLING CODE 6450-01-P